DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 69 FR 17166-17167, dated April 1, 2004) is amended to reorganize the Division of Parasitic Diseases, National Center for Infectious Diseases.

Section C-B, Organization and Functions, is hereby amended as follows:

Delete in its entirety the functional statement for the Division of Parasitic Diseases (CRS) and insert the following:

Division of Parasitic Diseases (CRS). (1) Conducts surveillance, investigations, and studies of parasitic diseases to define disease etiology, mode of transmission, and populations at risk and to develop effective methods for diagnosis, prevention, control, and elimination; (2) conducts or participates in clinical, field, and laboratory research to develop, evaluate, and improve laboratory methodologies and materials and therapeutic practices used for rapid and accurate diagnosis and treatment of parasitic diseases; (3) provides epidemic aid and epidemiologic consultation, upon request, to State and local health departments, other Federal agencies, and national and international health organizations; (4) provides reference/diagnostic services for parasitic diseases to State and local health departments, other Federal agencies, and national and international health organizations; (5) conducts a program of research and development in the biology, ecology, host-parasitic relationships, and control of parasitic diseases; (6) conducts laboratory studies of selected parasitic infections, emphasizing animal models and in vitro systems for parasitic relationships, chemotherapy, and immunology, to develop effective methods for diagnosis, prevention, and control; (7) provides scientific and technical assistance to other components within NCID or CDC when the work requires unique expertise or specialized equipment not available in other NCID or CDC components; (8) provides intramural and extramural technical expertise and assistance in professional training; (9) serves as World Health Organization (WHO) Collaborating Centers for Cysticercosis, Research Training and Control of Dracunculiasis, Control and Elimination of Lymphatic Filariasis, Evaluating and Testing New Insecticides, Insecticide Resistance, Insect Vectors; Malaria Control in Africa, Human African Trypanosomiasis, Production and Distribution of Malaria Sporozoite ELISAs, Collaborating Centers for Eradication of Guinea Worm; (10) maintains field-based research stations in Guatemala in collaboration with Universidad del Valle de Guatemala, and in Kenya in collaboration with KEMRI; (11) carries out this mission in a workplace that promotes professional development and recognizes the importance of the individual and the team; (12) provides communication support to enhance overall methods of dissemination of credible information to the public, local and state health officials, international partners and private funders in order to inform health decisions to prevent and control parasitic diseases in the United States and abroad. The services are provided through the partnerships with health care professionals, state, local and federal agencies with the United States, foreign governments, national and international organizations, and the public.

Delete in its entirety the functional statement for the Data Management Activity (CRS-2) and insert the following:

Data Management Activity (CRS12). (1) Provides statistical and information systems consultation for study design and protocol development; (2) designs and implements database management systems (including geographic information systems) in support of the Division of Parasitic Diseases (DPD) projects; (3) provides data analysis and statistical consultations in support of DPD projects; develops new methodologies as needed; (4) assists in production of and provides graphics support for presentations and manuscripts related to DPD objectives; (5) evaluates new software for statistical analysis, database management, graphics production, map creation, geographical information systems, and other functions related to DPD objectives and provides support for division activities in these areas.

Delete the title and functional statement for the Parasitic Diseases Epidemiology Branch (CRS2) and insert the following:

Parasitic Diseases Branch (CRS2). (1) Investigates outbreaks and unusual occurrences of parasitic diseases when requested by State departments, ministries of health, the World Health Organization (WHO), and other agencies and organizations; (2) conducts surveillance of waterborne disease outbreaks and other parasitic diseases in the United States; (3) provides reference and laboratory diagnostic services to physicians and laboratories; (4) transfers technologies and expertise in laboratory diagnosis of parasitic infections to public health laboratories; (5) provides consultation on the treatment and management of parasitic diseases to clinicians, laboratorians, departments of health, and other agencies; (6) provides otherwise unavailable anti-parasitic drugs to healthcare providers and ensures compliance with the Food and Drug Administration's regulations; (7) provides leadership and technical expertise in support of the agency's bioterrorism preparedness response initiatives as they relate to waterborne venues; (8) supports the agency's overall emergency response mandate; (9) conducts research on methods to detect parasites and agents of bioterrorism in water, and developing emergency public health response plans; (10) conducts field and laboratory investigations and research on the etiology, biology, epidemiology, ecology, pathogenesis, immunology, genetics, host-parasitic relationships, chemotherapy and other aspects of parasitic diseases to develop new tools for identifying and controlling parasitic diseases; (11) develops and tests new laboratory methods and tools for improved diagnosis, control, and prevention of parasitic diseases; (12) evaluates current strategies and develops new strategies for the control and elimination of parasitic diseases; (13) carries out and evaluates operational research to support programmatic activities; (14) provides technical assistance to ministries of health, the World Health Organization, and other agencies and organizations for these programs; (15) plans, implements and evaluates such programs; (16) provides training to EIS officers, Emerging Infectious Disease Fellow, AMS/NCID Postdoctoral Fellows, Preventive Medicine Residents, Public Health Prevention Specialists, and other fellows and students; (17) prepares educational materials on the prevention and treatment of parasitic diseases; (18) conducts laboratory training courses for public health laboratories; (19) prepares and disseminates health communication materials.

Delete in its entirety the functional statement for the Entomology Branch (CRS3) and insert the following:

Entomology Branch (CRS3). (1) Conducts laboratory and field research to develop, evaluate, and implement effective surveillance and vector arthropod control strategies; (2) develops and utilizes analytical methods for the use of pesticides for the control of vector-borne diseases, identification and quantification of anti-parasitic drugs, pharmaceutical products, and their metabolites in body fluids and tissues of humans and other animals; (3) serves as a WHO Collaborating Center or as an international standardized reference reagent and vector repository for methods development, training, surveillance, and research for insecticide resistance, vector identification, antimalarial drug evaluation, host-vector relationships, vector control; (4) provides entomological consultation and training to local, State, foreign and international health organizations on surveillance and control of vectors and vector-borne diseases; (5) conducts studies or collaborates on other disease surveillance and control initiatives as needed.

Delete in their entirety the title and functional statement for the Biology and Diagnostics Branch (CRS4).

Delete in their entirety the title and functional statement for the Immunology Branch (CRS5).

Delete in its entirety the title and functional statement for the Malaria Epidemiology Branch (CRS6) and insert the following:

Malaria Branch (CRS6). (1) Conducts malaria surveillance, prevention, and control in U.S. residents and visitors, including monitoring the frequency and distribution of malaria cases that occur in U.S. residents and visitors; monitoring the efficacy and safety of antimalarial drugs for chemoprophylaxis and chemotherapy; offering clinical advice and epidemiologic assistance on the treatment, control, and prevention of malaria in the United States and in malaria endemic countries; and providing information to the U.S. public and to agencies or groups serving this population on appropriate measures to prevent and control malaria; (2) provides consultation, technical assistance, and training to malaria-endemic countries and to international and United States agencies and organizations on issues of malaria prevention and control; (3) conducts epidemiologic, laboratory, and field-based research projects, in support of Malaria Branch mandates (#1 and #2 above), including laboratory and field studies on parasitic diseases to define biology, ecology, transmission dynamics, parasite species differences, host-parasite relationships, diagnostics, host immune responses, populations at risk, and determinants of morbidity and mortality; (4) conducts laboratory studies of malaria parasites, emphasizing animal models and in vitro systems for parasitic relationships, chemotherapy, and vaccine evaluation studies; (5) conducts field studies of malaria prevention and control tools and strategies; (6) conducts assessments of malaria monitoring and evaluation methods and program use of these methods.

Dated: July 27, 2004.
William H. Gimson,
Chief Operating Officer, Centers for Disease Control and Prevention (CDC).

[FR Doc. 04-18072 Filed 8-6-04; 8:45 am]

BILLING CODE 4160-18-M